FEDERAL COMMUNICATIONS COMMISSION

47 CFR Part 73

[DA 01-1742, MM Docket Nos. 01-59, 01-60; RM-10072, RM-10073]

Radio Broadcasting Services (Salem, Mollalla, Oregon; Avon, Fairport, New York)

AGENCY: Federal Communications Commission.

ACTION: Final rule.

SUMMARY: This document grants two petitions for rulemaking, issued on a multiple Notice of Proposed Rulemaking. See 66 FR 15065 (03/15/01). The first, filed by Entercom Portland License, LLC., licensee of Station KRSK(FM), Salem, Oregon, requested the reallotment of Channel 286C from Salem to Mollalla, Oregon. Channel 286C is allotted at Mollalla in compliance with the Commission's minimum distance separation requirements, with respect to domestic allotments, at petitioner's existing site at coordinates 45-00-35 NL and 122-20-17 WL. The second, filed by Entercom RochesterLicense, LLC, licensee of Station WBBF-FM, Avon, New York, requested the reallotment of Channel 227A from Avon to Fairport, New York. Channel 227A is allotted at Fairport in compliance with the Commission's minimum distance separation requirements, with respect to domestic allotments, at a site 9.2 kilometers (5.7 miles) north of the community at coordinates 43-10-37 NL and 77-28-39 WL.

DATES: Effective September 10, 2001.

FOR FURTHER INFORMATION CONTACT: Victoria M. McCauley, Mass Media Bureau, (202) 418-2180.

SUPPLEMENTARY INFORMATION: This is a synopsis of the Commission's Report and Order, MM Docket Nos. 01-59 and 01-60, adopted July 11, 2001, and released July 20, 2001. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oregon is amended to remove Salem, Channel 286C and add Mollalla, Channel 286C.

3. Section 73.202(b), the Table of FM Allotments under New York is amended to remove Avon, Channel 227A, and add Fairport, Channel 227A.

Federal Communications Commission.
John A. Karousos,
Chief, Allocations Branch, Policy and Rules Division, Mass Media Bureau.

[FR Doc. 01-18989 Filed 7-30-01; 8:45 am]

BILLING CODE 6712-01-P